DEPARTMENT OF HOUSING AND URBAN DEVELOPMENT

[Docket No. FR-5186-N-13]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Headquarters, Department of the Army, Office of the Assistant Chief of Staff for Installation Management, Attn: DAIM-ZS, Rm 8536, 2511 Jefferson Davis Hwy., Arlington, VA 22209; (703) 601-2545; Air Force: Ms. Kathryn Halvorson, Director, Air Force Real Property Agency, 1700 North Moore St., Suite 2300, Arlington, VA 22209-2802; (703) 696-5502; Coast Guard: Commandant, United States Coast Guard, Attn: Teresa Sheinberg, 2100 Second St., SW., Rm 6109, Washington, DC 20593-0001; (202) 267-6142; Energy: Mr. Mark Price, Department of Energy, Office of Engineering & Construction Management, MA-50, 1000 Independence Ave., SW., Washington, DC 20585; (202) 586-0072; GSA: Mr. John Smith, Deputy Assistant Commissioner, General Services Administration, Office of Property Disposal, 18th & F Streets, NW., Washington, DC 20405; (202) 501-0084; Navy: Mrs. Mary Arndt, Acting Director, Department of the Navy, Real Estate Services, Naval Facilities Engineering Command, Washington Navy Yard, 1322 Patterson Ave., SE., Suite 1000, Washington, DC 20374-5065; (202) 685-9305. (These are not toll-free numbers.)

Dated: March 20 2008.
Mark R. Johnston,
Deputy Assistant Secretary for Special Needs.

TITLE V, FEDERAL SURPLUS PROPERTY PROGRAM, FEDERAL REGISTER REPORT FOR 03/28/2008

Suitable/Available Properties

Building

Hawaii

Bldg. 849

Bellows AFS

Bellows AFS HI

Landholding Agency: Air Force

Property Number: 18200330008

Status: Unutilized

Comments: 462 sq. ft., concrete storage facility, off-site use only

Nebraska

Environmental Chemistry

Branch Laboratory

420 South 18th St.

Omaha NE 68102

Landholding Agency: GSA

Property Number: 54200810010

Status: Excess

GSA Number: 7-D-NE-532

Comments: 11,250 sq. ft., needs repair, frequent basement flooding, requires large sump pumps, most recent use—laboratory

Suitable/Available Properties

Building

New York

Bldg. 240

Rome Lab

Rome Co: Oneida NY 13441

Landholding Agency: Air Force

Property Number: 18200340023

Status: Unutilized

Comments: 39108 sq. ft., presence of asbestos, most recent use—Electronic Research Lab

Bldg. 247

Rome Lab

Rome Co: Oneida NY 13441

Landholding Agency: Air Force

Property Number: 18200340024

Status: Unutilized

Comments: 13199 sq. ft., presence of asbestos, most recent use—Electronic Research Lab

Bldg. 248

Rome Lab

Rome Co: Oneida NY 13441

Landholding Agency: Air Force

Property Number: 18200340025

Status: Unutilized

Comments: 4000 sq. ft., presence of asbestos, most recent use—Electronic Research Lab

Bldg. 302

Rome Lab

Rome Co: Oneida NY 13441

Landholding Agency: Air Force

Property Number: 18200340026

Status: Unutilized

Comments: 10288 sq. ft., presence of asbestos, most recent use—communications facility

Suitable/Available Properties

Land

Missouri

Communications Site

County Road 424

Dexter Co: Stoddard MO

Landholding Agency: Air Force

Property Number: 18200710001

Status: Unutilized

Comments: 10.63 acres

North Carolina

0.14 acres

Pope AFB

Pope AFB NC

Landholding Agency: Air Force

Property Number: 18200810001

Status: Excess

Comments: most recent use—middle marker, easement for entry

Texas

0.13 acres

DYAB, Dyess AFB

Tye Co: Taylor TX 79563

Landholding Agency: Air Force

Property Number: 18200810002

Status: Unutilized

Comments: most recent use—middle marker, access limitation

Suitable/Unavailable Properties

Building

Washington

22 Bldgs./Geiger Heights

Fairchild AFB

Spokane WA 99224

Landholding Agency: Air Force

Property Number: 18200420001

Status: Unutilized

Comments: 1625 sq. ft., possible asbestos/lead paint, most recent use—residential

Bldg. 404/Geiger Heights

Fairchild AFB

Spokane WA 99224

Landholding Agency: Air Force

Property Number: 18200420002

Status: Unutilized

Comments: 1996 sq. ft., possible asbestos/lead paint, most recent use—residential

11 Bldgs./Geiger Heights

Fairchild AFB

Spokane WA 99224

Landholding Agency: Air Force

Property Number: 18200420003

Status: Unutilized

Comments: 2134 sq. ft., possible asbestos/lead paint, most recent use—residential

Bldg. 297/Geiger Heights

Fairchild AFB

Spokane WA 99224

Landholding Agency: Air Force

Property Number: 18200420004

Status: Unutilized

Comments: 1425 sq. ft., possible asbestos/lead paint, most recent use—residential

Suitable/Unavailable Properties

Building

Washington

9 Bldgs./Geiger Heights

Fairchild AFB

Spokane WA 99224

Landholding Agency: Air Force

Property Number: 18200420005

Status: Unutilized

Comments: 1620 sq. ft., possible asbestos/lead paint, most recent use—residential

22 Bldgs./Geiger Heights

Fairchild AFB

Spokane WA 99224

Landholding Agency: Air Force

Property Number: 18200420006

Status: Unutilized

Comments: 2850 sq. ft., possible asbestos/lead paint, most recent use—residential

51 Bldgs./Geiger Heights

Fairchild AFB

Spokane WA 99224

Landholding Agency: Air Force

Property Number: 18200420007

Status: Unutilized

Comments: 2574 sq. ft., possible asbestos/lead paint, most recent use—residential

Bldg. 402/Geiger Heights

Fairchild AFB

Spokane WA 99224

Landholding Agency: Air Force

Property Number: 18200420008

Status: Unutilized

Comments: 2451 sq. ft., possible asbestos/lead paint, most recent use—residential

Suitable/Unavailable Properties

Building

Washington

5 Bldgs./Geiger Heights

Fairchild AFB

222, 224, 271, 295, 260

Spokane WA 99224

Landholding Agency: Air Force

Property Number: 18200420009

Status: Unutilized

Comments: 3043 sq. ft., possible asbestos/lead paint, most recent use—residential

5 Bldgs./Geiger Heights

Fairchild AFB

102, 183, 118, 136, 113

Spokane WA 99224

Landholding Agency: Air Force

Property Number: 18200420010

Status: Unutilized

Comments: 2599 sq. ft., possible asbestos/lead paint, most recent use—residential

Land

South Dakota

Tract 133

Ellsworth AFB

Box Elder Co: Pennington SD 57706

Landholding Agency: Air Force

Property Number: 18200310004

Status: Unutilized

Comments: 53.23 acres

Suitable/Unavailable Properties

Land

South Dakota

Tract 67

Ellsworth AFB

Box Elder Co: Pennington SD 57706

Landholding Agency: Air Force

Property Number: 18200310005

Status: Unutilized

Comments: 121 acres, bentonite layer in soil, causes movement

Unsuitable Properties

Building

Alaska

Bldg. 9485

Elmendorf AFB

Elmendorf AK

Landholding Agency: Air Force

Property Number: 18200730001

Status: Unutilized

Reasons: Secured Area

Bldg. 12B

Integrated Support Command

Kodiak AK

Landholding Agency: Coast Guard

Property Number: 88200810003

Status: Excess

Reasons: Secured Area, Within 2000 ft. of flammable or explosive material, Extensive deterioration

Unsuitable Properties

Building

Alaska

Bldg. 554

Integrated Support Command

Kodiak AK

Landholding Agency: Coast Guard

Property Number: 88200810004

Status: Excess

Reasons: Within 2000 ft. of flammable or explosive material, Secured Area

Arizona

Railroad Spur

Davis-Monthan AFB

Tucson AZ 85707

Landholding Agency: Air Force

Property Number: 18200730002

Status: Excess

Reasons: Within airport runway clear zone

California

Bldgs. 5001 thru 5082

Edwards AFB

Area A

Los Angeles CA 93524

Landholding Agency: Air Force

Property Number: 18200620002

Status: Unutilized

Reasons: Extensive deterioration, Secured Area

Unsuitable Properties

Building

California

Garages 25001 thru 25100

Edwards AFB

Area A

Los Angeles CA 93524

Landholding Agency: Air Force

Property Number: 18200620003

Status: Unutilized

Reasons: Extensive deterioration, Secured Area

Bldg. 00275

Edwards AFB

Kern CA 93524

Landholding Agency: Air Force

Property Number: 18200730003

Status: Unutilized

Reasons: Extensive deterioration, Within airport runway clear zone, Secured Area

Bldgs. 02845, 05331, 06790

Edwards AFB

Kern CA 93524

Landholding Agency: Air Force

Property Number: 18200740001

Status: Unutilized

Reasons: Extensive deterioration

Unsuitable Properties

Building

California

Bldgs. 07173, 07175, 07980

Edwards AFB

Kern CA 93524

Landholding Agency: Air Force

Property Number: 18200740002

Status: Unutilized

Reasons: Secured Area

Bldg. 5308

Edwards AFB

Kern CA 93523

Landholding Agency: Air Force

Property Number: 18200810003

Status: Unutilized

Reasons: Secured Area, Extensive deterioration

Facility 100

Pt. Arena AF Station

Mendocino CA 95468

Landholding Agency: Air Force

Property Number: 18200810004

Status: Excess

Reasons: Secured Area, Extensive deterioration

Unsuitable Properties

Building

California

Bldgs. 22176, 62507, 410363

Marine Corps Base

Camp Pendleton CA

Landholding Agency: Navy

Property Number: 77200810021

Status: Excess

Reasons: Extensive deterioration, Secured Area

Florida

Bldg. 01248

Cape Canaveral AFS

Brevard FL 32925

Landholding Agency: Air Force

Property Number: 18200740003

Status: Unutilized

Reasons: Secured Area

Bldg. 44426

Cape Canaveral AFS

Brevard FL 32925

Landholding Agency: Air Force

Property Number: 18200740004

Status: Unutilized

Reasons: Secured Area

Unsuitable Properties

Building

Florida

Bldg. 85406

Cape Canaveral AFS

Brevard FL 32925

Landholding Agency: Air Force

Property Number: 18200740005

Status: Unutilized

Reasons: Secured Area

Facility 70520, 10754

Cape Canaveral AFS

Brevard FL 32925

Landholding Agency: Air Force

Property Number: 18200810005

Status: Unutilized

Reasons: Secured Area

Georgia

6 Cabins

QSRG Grassy Pond Rec Annex

Lake Park GA 31636

Landholding Agency: Air Force

Property Number: 18200730004

Status: Unutilized

Reasons: Extensive deterioration

Bldgs. 101, 102, 103

Moody AFB

Lowndes GA 31699

Landholding Agency: Air Force

Property Number: 18200810006

Status: Excess

Reasons: Extensive deterioration

Unsuitable Properties

Building

Georgia

Bldgs. 330, 331, 332, 333

Moody AFB

Lowndes GA 31699

Landholding Agency: Air Force

Property Number: 18200810007

Status: Excess

Reasons: Extensive deterioration

Hawaii

Bldg. 1815

Hickam AFB

Hickam HI 96853

Landholding Agency: Air Force

Property Number: 18200730005

Status: Unutilized

Reasons: Extensive deterioration

Bldgs. 1028, 1029

Hickam AFB

Hickam HI 96853

Landholding Agency: Air Force

Property Number: 18200740006

Status: Unutilized

Reasons: Secured Area

Bldgs. 1710, 1711

Hickam AFB

Hickam HI 96853

Landholding Agency: Air Force

Property Number: 18200740007

Status: Unutilized

Reasons: Secured Area

Unsuitable Properties

Building

Louisiana

Barksdale Middle Marker

Bossier LA 71112

Landholding Agency: Air Force

Property Number: 18200730006

Status: Excess

Reasons: Extensive deterioration

Bldgs. 37, 89, 122

Naval Air Station

New Orleans LA 70143

Landholding Agency: Navy

Property Number: 77200810024

Status: Excess

Reasons: Extensive deterioration, Secured Area

Bldgs. 159, 418, 902

Naval Air Station

New Orleans LA 70143

Landholding Agency: Navy

Property Number: 77200810025

Status: Excess

Reasons: Extensive deterioration, Secured Area

Unsuitable Properties

Building

Maine

Facilities 1, 2, 3, 4

OTH-B Site

Moscow ME 04920

Landholding Agency: Air Force

Property Number: 18200730007

Status: Unutilized

Reasons: Within 2000 ft. of flammable or explosive material

New Mexico

Bldg. 1016

Kirtland AFB

Bernalillo NM 87117

Landholding Agency: Air Force

Property Number: 18200730008

Status: Unutilized

Reasons: Extensive deterioration, Secured Area, Within 2000 ft. of flammable or explosive material

North Dakota

Bldgs. 1612, 1741

Grand Forks AFB

Grand Forks ND 58205

Landholding Agency: Air Force

Property Number: 18200720023

Status: Unutilized

Reasons: Within 2000 ft. of flammable or explosive material, Secured Area

Unsuitable Properties

Building

South Carolina

Bldgs. 19, 20, 23

Shaw AFB

Sumter SC 29152

Landholding Agency: Air Force

Property Number: 18200730009

Status: Underutilized

Reasons: Secured Area

Bldgs. 27, 28, 29

Shaw AFB

Sumter SC 29152

Landholding Agency: Air Force

Property Number: 18200730010

Status: Underutilized

Reasons: Secured Area

Bldgs. 30, 39

Shaw AFB

Sumter SC 29152

Landholding Agency: Air Force

Property Number: 18200730011

Status: Underutilized

Reasons: Secured Area

Unsuitable Properties

Building

South Dakota

Bldg. 2306

Ellsworth AFB

Meade SD 57706

Landholding Agency: Air Force

Property Number: 18200740008

Status: Underutilized

Reasons: Secured Area, Within 2000 ft. of flammable or explosive material

Tennessee

4 Bldgs.

East TN Technology Park

Oak Ridge TN 37831

Landholding Agency: Energy

Property Number: 41200810007

Status: Excess

Directions: 1513, 1515, 1515E, 1515H

Reasons: Secured Area

24 Bldgs.

Naval Support Activity

Millington TN 38054

Landholding Agency: Navy

Property Number: 77200810022

Status: Excess

Directions: S202, S220, S220A, S221, S222, S223, S224, S225, S236, 246, 277, 278, 343, 360, 756, 891, 892, 893, 1279, 1674, 1675, 1723, 1724, 1829

Reasons: Secured Area

Unsuitable Properties

Building

Texas

Bldg. 1001

FNXC, Dyess AFB

Tye Co: Taylor TX 79563

Landholding Agency: Air Force

Property Number: 18200810008

Status: Unutilized

Reasons: Extensive deterioration

Bldgs. 3379, 3380

Naval Air Station

Ft. Worth Co: Tarrant TX 76127

Landholding Agency: Navy

Property Number: 77200810023

Status: Unutilized

Reasons: Extensive deterioration, Secured Area

Virginia

Bldgs. 45, 46

Fort Myer

Fort Myer VA 22211

Landholding Agency: Army

Property Number: 21200810061

Status: Excess

Reasons: Extensive deterioration

Unsuitable Properties

Building

Wyoming

Bldgs. 1525, 4303

F.E. Warren AFB

Laramie WY 82005

Landholding Agency: Air Force

Property Number: 18200730012

Status: Unutilized

Reasons: Secured Area, Extensive deterioration

Bldg. 00012

Cheyenne RAP

Laramie WY 82009

Landholding Agency: Air Force

Property Number: 18200730013

Status: Unutilized

Reasons: Secured Area, Extensive deterioration, Within 2000 ft. of flammable or explosive material

Land

Florida

Defense Fuel Supply Point

Lynn Haven FL 32444

Landholding Agency: Air Force

Property Number: 18200740009

Status: Excess

Reasons: Floodway

[FR Doc. E8-6097 Filed 3-27-08; 8:45 am]

BILLING CODE 4210-67-P